DEPARTMENT OF ENERGY

Agency Information Collection Extension

AGENCY: U.S. Department of Energy.

ACTION: Notice and request for comments.

SUMMARY: The Department of Energy (DOE), pursuant to the Paperwork Reduction Act of 1995), intends to extend for three years, an information collection request with the Office of Management and Budget (OMB).

DATES: Comments regarding this proposed information collection must be received on or before January 4, 2019. If you anticipate difficulty in submitting comments within that period, contact the person listed below as soon as possible.

ADDRESSES: Written comments may be sent to Courtney Bracey by email at Courtney.Bracey@science.doe.gov.

FOR FURTHER INFORMATION CONTACT: Courtney Bracey, courtney.bracey@science.doe.gov, (301) 903-1844.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. This information collection request contains:

(1) OMB No. {1910-5178};

(2) Information Collection Request Title: Portfolio Analysis and Management System (PAMS);

(3) Type of Review: {extension};

(4) Purpose: This existing collection is based on the Health Resources and Services Administration (HRSA) Electronic Handbooks software. Discretionary financial assistance proposals continue to be collected using Grants.gov but are imported into PAMS for use by the program offices. Under the existing information collection, an external interface in PAMS allows two other types of proposal submission: DOE National Laboratories are able to submit proposals for technical work authorizations directly into PAMS, while other Federal Agencies will be able to submit Proposals for interagency awards directly into PAMS. External users from all institution types are able to submit Solicitation Letters of Intent and Pre-proposals directly into PAMS. All applicants, whether they submitted through Grants.gov or PAMS, are able to register with PAMS to view the proposals that were submitted. They also are able to maintain a minimal amount of information in their personal profile. The existing collection automates and streamlines the submission, tracking, and correspondence portions of financial award pre-review processes.

The information collected is used by DOE to select applicants and projects for financial awards;

(5) Annual Estimated Number of Respondents: {The following numbers are calculated using the average of data received in fiscal year 2015 through fiscal year 2018. 6,533 PAMS new registrants, who are to include 9,700 submitters of lab proposals, interagency proposals, pre-proposals, and Letters Of Intent (LOI) (assuming one person per estimated submission) and 10,900 reviewers of proposals submitted through Grants.gov;

(6) Annual Estimated Number of Total Responses: Annual Estimated Number of Total Responses: The Office of Science receives about 370 DOE national laboratory and interagency proposals per year, based on an average number of submissions received for (fiscal year 2015 through fiscal year 2018) and about 4,600 pre-proposals and letters of intent per year, based on an average of the data collected between fiscal year 2015 and fiscal year 2018;

(7) Annual Estimated Number of Burden Hours: The time it takes to complete a form depends upon the type of form being completed. External users will need to register with PAMS in order to access the system. It takes approximately 30 minutes for external users to complete the forms required to become a registered PAMS user. Both LOI and pre-proposal forms take 15 minutes each, whereas completing a lab/interagency proposal will take about 3 hours. The reviewers require about 3 hour of analysis, per submission. Based on the annual estimated number of responses, broken down by DOE national laboratory, letter of intent and pre-proposal, the annual estimated time required for reviewers to complete analysis or responses and the time required for external users to register with PAMS, the estimated annual number of burden hours is 30,150;

(8) Annual Estimated Reporting and Recordkeeping Cost Burden: $0.

Statutory Authority: Section 641 of the Department of Energy Organization Act, codified at 42 U.S.C. 7251.

Signed in Washington, DC, on October 22, 2018.
Vasilios Kountouris,
Director, Office of Information Technology and Services, Office of Science, Department of Energy.

[FR Doc. 2018-24131 Filed 11-2-18; 8:45 am]

BILLING CODE 6450-01-P